DEPARTMENT OF HEALTH AND HUMAN SERVICES

National Institutes of Health

Center for Scientific Review; Amended Notice of Meeting

Notice is hereby given of a change in the meeting of the Integrative Nutrition and Metabolic Processes Study Section, October 4, 2007, 8:30 a.m. to October 5, 2007, 2 p.m., Oakland Marriott City Center, 1001 Broadway, Oakland, CA 94607 which was published in the Federal Register on September 10, 2007, 72 FR 51649-51652.

The meeting will be held October 4, 2007, 7:30 a.m. to October 5, 2007, 12 p.m. The meeting location remains the same. The meeting is closed to the public.

Dated: September 13, 2007.
Jennifer Spaeth,
Director, Office of Federal Advisory Committee Policy.

[FR Doc. 07-4672 Filed 9-20-07; 8:45 am]

BILLING CODE 4140-01-M